ENVIRONMENTAL PROTECTION AGENCY

[EPA-HQ-OPPT-2007-0378; FRL-8532-2]

Agency Information Collection Activities; Submission to OMB for Review and Approval; Comment Request; TSCA Sections 402 and Section 404 Training, Certification, Accreditation and Standards for Lead-Based Paint Activities (Renewal); EPA ICR No. 1715.09, OMB No. 2070-0155

AGENCY: Environmental Protection Agency (EPA).

ACTION: Notice.

SUMMARY: In compliance with the Paperwork Reduction Act (44 U.S.C. 3501, et seq.), this document announces that an Information Collection Request (ICR) has been forwarded to the Office of Management and Budget (OMB) for review and approval. This is a request to renew an existing approved collection. The ICR, which is abstracted below, describes the nature of the information collection activity and its expected burden and costs.

DATES: Additional comments may be submitted on or before March 24, 2008.

ADDRESSES: Submit your comments, referencing docket ID Number EPA-HQ-OPPT-2007-0378 to (1) EPA online using www.regulations.gov (our preferred method), by e-mail to oppt.ncic@epa.gov or by mail to: Document Control Office (DCO), Office of Pollution Prevention and Toxics (OPPT), Environmental Protection Agency, Mail Code: 7407T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Barbara Cunningham, Director, Environmental Assistance Division, Office of Pollution Prevention and Toxics, Environmental Protection Agency, Mailcode: 7408-M, 1200 Pennsylvania Ave., NW., Washington, DC 20460; telephone number: 202-554-1404; e-mail address: TSCA-Hotline@epa.gov.

SUPPLEMENTARY INFORMATION: EPA has submitted the following ICR to OMB for review and approval according to the procedures prescribed in 5 CFR 1320.12. On July 11, 2007 (72 FR 37766), EPA sought comments on this renewal ICR pursuant to 5 CFR 1320.8(d). EPA received no comments during the comment period. Any comments related to this ICR should be submitted to EPA and OMB within 30 days of this notice.

EPA has established a public docket for this ICR under Docket ID No. EPA-HQ-OPPT-2007-0378, which is available for online viewing at http://www.regulations.gov, or in person inspection at the OPPT Docket in the EPA Docket Center (EPA/DC), EPA West, Room 3334, 1301 Constitution Ave., NW., Washington, DC. The EPA Docket Center Public Reading Room is open from 8 a.m. to 4:30 p.m., Monday through Friday, excluding legal holidays. The telephone number for the Reading Room is 202-566-1744, and the telephone number for the Pollution Prevention and Toxics Docket is 202-566-0280.

Use EPA's electronic docket and comment system at www.regulations.gov to submit or view public comments, access the index listing of the contents of the public docket, and to access those documents in the docket that are available electronically. Once in the system, select “docket search,” then key in the docket ID number identified above. Please note that EPA's policy is that public comments, whether submitted electronically or in paper, will be made available for public viewing in www.regulations.gov as EPA receives them and without change, unless the comment contains copyrighted material, Confidential Business Information (CBI), or other information whose public disclosure is restricted by statute. For further information about the electronic docket, go to www.regulations.gov.

Title: TSCA Sections 402 and Section 404 Training, Certification, Accreditation and Standards for Lead-Based Paint Activities (Renewal).

ICR Numbers: EPA ICR No. 1715.09, OMB No. 2070-0155.

ICR Status: This ICR is currently scheduled to expire on February 29, 2008. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: This information collection applies to reporting and recordkeeping requirements found in sections 402 and 404 of the Toxic Substances Control Act (TSCA) and applicable regulations at 40 CFR part 745, subparts L and Q. The purposes of the requirements under TSCA section 402 are to ensure that individuals conducting activities that prevent, detect and eliminate hazards associated with lead-based paint in residential facilities, particularly those occupied or used by children, are properly trained and certified, that training programs providing instruction in such activities are accredited, and that these activities are conducted according to reliable, effective and safe work practice standards. The TSCA section 404 regulations include reporting and recordkeeping requirements that apply to states and Indian Tribes that seek Federal authorization to administer and enforce state and tribal programs that regulate lead-based paint activities based on the section 402 regulations. The overall goals of the section 402 and section 404 regulations and the reporting and recordkeeping requirements found therein are to ensure the availability of a trained and qualified workforce to identify and address lead-based paint hazards in residences, and to protect the general public from exposure to lead hazards.

Responses to the collection of information are mandatory (see 40 CFR part 745, subparts L and Q). Respondents may claim all or part of a notice as CBI. EPA will disclose information that is covered by a CBI claim only to the extent permitted by, and in accordance with, the procedures in 40 CFR part 2.

Burden Statement: The annual public reporting and recordkeeping burden for this collection of information is estimated to range between 0.28 hours and 80 hours per respondent, depending on the type of respondent. Burden means the total time, effort or financial resources expended by persons to generate, maintain, retain or disclose or provide information to or for a Federal agency. This includes the time needed to review instructions; develop, acquire, install and utilize technology and systems for the purposes of collecting, validating and verifying information, processing and maintaining information, and disclosing and providing information; adjust the existing ways to comply with any previously applicable instructions and requirements; train personnel to be able to respond to a collection of information; search data sources; complete and review the collection of information; and transmit or otherwise disclose the information.

Respondents/Affected Entities: Entities potentially affected by this action are persons who provide training in lead-based paint activities, persons who are engaged in lead-based paint activities, and state agencies that administer lead-based paint activities.

Frequency of Collection: On Occasion.

Estimated No. of Respondents: 43,082.

Estimated Total Annual Burden on Respondents: 774,740 hours.

Estimated Total Annual Labor Costs: $28,792,102.

Changes in Burden Estimates: There is a net increase of 333,927 hours (from 440,813 hours to 774,740 hours) in the total estimated respondent burden compared with that currently in the OMB inventory. This increase represents an adjustment in the estimated number of respondents and/or the number of activities or events for which respondents must provide information, based on EPA's experience since the approval of the most recent ICR. A detailed explanation of the change in burden appears in the Supporting Statement. The increase is an adjustment.

Dated: February 14, 2008.
Joseph A. Sierra,
Acting Director, Collection Strategies Division.

[FR Doc. E8-3378 Filed 2-21-08; 8:45 am]

BILLING CODE 6560-50-P